NATIONAL SCIENCE FOUNDATION

Business and Operations Advisory Committee; Notice of Meeting

In accordance with Federal Advisory Committee Act (Pub. L. 92-463, as amended), the National Science Foundation announces the following meeting:

Name: Business and Operations Advisory Committee (9556).

Dates: Date/Time:

May 8, 2012; 1 p.m. to 6 p.m. (EST),

May 9, 2012; 8 a.m. to 12 p.m. (EST).

Place: National Science Foundation, 4201 Wilson Boulevard, Stafford I, Room 1235.

Type of Meeting: Open.

Contact Person: Joan Miller, National Science Foundation, 4201 Wilson Boulevard, Arlington, VA 22230, (703) 292-8200.

Purpose of Meeting: To provide advice concerning issues related to the oversight, integrity, development and enhancement of NSF's business operations.

Agenda

May 8, 2012

Welcome/Introductions; BFA/OIRM Overview; Challenges to Reduce Costs and Identify Efficiencies—Introduction, Panel/Discussion; Change Management/Effect on Employee Morale.

May 9, 2012

Business System Review Subcommittee; Recompetition of Major Research Facilities Subcommittee; Update on Sub Committees; Prepare for Meeting with NSF Deputy Director; Discussion with Deputy Director; Closing Discussion.

Date: April 17, 2012.
Susanne Bolton,
Committee Management Officer.

[FR Doc. 2012-9536 Filed 4-19-12; 8:45 am]

BILLING CODE 7555-01-P